DEPARTMENT OF TRANSPORTATION

[Docket No. PHMSA-2021-0054]

Pipeline Safety: Information Collection Activities

AGENCY: Pipeline and Hazardous Materials Safety Administration (PHMSA), DOT.

ACTION: Notice and request for comments.

SUMMARY: In accordance with the Paperwork Reduction Act of 1995, PHMSA invites comments on proposed revisions to Form PHMSA F 7000-1, “Accident Report—Hazardous Liquid and Carbon Dioxide Pipeline Systems,” under Office of Management and Budget (OMB) Control No. 2137-0047; Form PHMSA F 7100.2-1, “Annual Report for Natural and Other Gas Transmission and Gathering Pipeline Systems,” under OMB Control No. 2137-0522; Form PHMSA F 7000-1.1, “Annual Report for Hazardous Liquid and Carbon Dioxide Pipeline Systems,” under OMB Control No. 2137-0614; Form PHMSA F 7100.1-1, “Annual Report for Gas Distribution Systems,” under OMB Control No. 2137-0629; and Forms PHMSA F 7100.1, “Incident Report—Gas Distribution Systems,” PHMSA F 7100.2, “Incident Report—Gas Transmission and Gathering Systems,” and PHMSA F 7100.3, “Incident Report—Liquefied Natural Gas (LNG) Facilities,” each under OMB Control No. 2137-0635.

DATES: Interested persons are invited to submit comments on or before May 10, 2022.

ADDRESSES: Comments may be submitted in the following ways:

E-Gov Website: http://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m., ET, Monday through Friday, except federal holidays.

Instructions: Identify the docket number, PHMSA-2021-0054 at the beginning of your comments. Note that all comments received will be posted without change to http://www.regulations.gov, including any personal information provided.

Docket: For access to the docket or to read background documents or comments, go to http://www.regulations.gov at any time or to Room W12-140 on the ground level of DOT, West Building, 1200 New Jersey Avenue SE, Washington, DC, between 9:00 a.m. and 5:00 p.m., ET, Monday through Friday, except federal holidays. If you wish to receive confirmation of receipt of your written comments, please include a self-addressed, stamped postcard with the following statement: “Comments on: PHMSA-2021-0054.” The Docket Clerk will date stamp the postcard prior to returning it to you via the U.S. mail. Please note that due to delays in the delivery of U.S. mail to federal offices in Washington, DC, we recommend that persons consider an alternative method (internet, fax, or professional delivery service) of submitting comments to the docket and ensuring their timely receipt at DOT.

Privacy Act Statement: DOT may solicit comments from the public regarding certain general notices. DOT posts these comments, without edit, including any personal information the commenter provides, to www.regulations.gov, as described in the system of records notice (DOT/ALL- 14 FDMS), which can be reviewed at www.dot.gov/privacy.

Confidential Business Information: Confidential Business Information (CBI) is commercial or financial information that is both customarily and actually treated as private by its owner. Under the Freedom of Information Act (FOIA, 5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) Mark each page of the original document submission containing CBI as “Confidential”; (2) send PHMSA, along with the original document, a second copy of the original document with the CBI deleted; and (3) explain why the information you are submitting is CBI. Submissions containing CBI should be sent to Angela Hill, DOT, PHMSA, 1200 New Jersey Avenue SE, PHP-30, Washington, DC 20590-0001. Any commentary PHMSA receives that is not specifically designated as CBI will be placed in the public docket for this matter.

FOR FURTHER INFORMATION CONTACT: Angela Hill by telephone at 202-366-1246, by email at Angela.Hill@dot.gov, or by mail at DOT, PHMSA, 1200 New Jersey Avenue SE, PHP-30, Washington, DC 20590-0001.

SUPPLEMENTARY INFORMATION:

I. Background

Section 1320.8(d), Title 5, Code of Federal Regulations (CFR), requires PHMSA to provide interested members of the public and affected entities an opportunity to comment on information collection and recordkeeping requests. This notice identifies the proposed changes to information collections under OMB Control Numbers 2137-0047, 2137-0522, 2137-0614, 2137-0629, and 2137-0635 that PHMSA will submit to OMB for approval.

Excavation damage is one of the leading causes of serious pipeline incidents. Additionally, the consequences of these damages have the potential to significantly impact the environment and negatively affect communities across our Nation. In 2000, PHMSA was instrumental in creating the Common Ground Alliance (CGA) a non-profit organization established to help reduce damage to the underground facility infrastructure—ensuring public safety, environmental protection, and the reliability of utility services. In the years since, PHMSA has continued supporting CGA efforts. In 2003, the CGA launched the Damage Information Reporting Tool (DIRT) to collect excavation damage data, including root cause data to identify the underlying causes of excavation damages to underground facilities. Understanding the root causes of excavation damage is essential to identifying measures to prevent future damage.

Since 2010, gas distribution pipeline operators have submitted the number of excavation damage events on their pipelines and one-call notices of excavation (tickets) involving their facilities to PHMSA annually on Form PHMSA F 7100.1-1, “Annual Report for Gas Distribution Systems.” PHMSA incident and accident reports were also modified in 2010 to collect excavation damage data in the format contemplated in the CGA's DIRT. In 2015, PHMSA began collecting gas distribution annual report excavation damage data in each of the CGA DIRT root cause categories. In 2018, to better understand the impact of excavation damages to people, property, and the environment, the CGA added new questions to DIRT and expanded the number of root cause categories.

PHMSA plans to amend its forms to continue alignment of PHMSA submissions regarding excavation damage to pipelines with the CGA's DIRT scheme to improve consistency and to reduce burdens on operators. Many pipeline operators submit data to CGA DIRT, so consistency between the DIRT and PHMSA submissions will avoid duplication of efforts by pipeline operators. The 2018 DIRT data structure also produces more detail about excavation damage root cause than existing PHMSA forms. By collecting more detailed data, PHMSA and stakeholders can better understand the gaps in current pipeline operator damage prevention programs.

As gas gathering, gas transmission, and hazardous liquid pipeline systems are susceptible to excavation damage, PHMSA is proposing to collect excavation damage data on the annual reports for these pipeline systems. Differences among the predominant root causes by pipeline system might indicate different preventive measures for each system type, so these data points will be useful for PHMSA to collect.

PHMSA also proposes miscellaneous changes to the forms and certain instructions unrelated to excavation damage root cause. These changes are fully described in the following paragraphs.

A. Form PHMSA F 7000-1 Accident Report—Hazardous Liquid and Carbon Dioxide Pipeline Systems

In Part A4 of this form, operators are instructed to enter the earliest local time and date an accident reporting criterion was met. In some cases, consequences occur when the pipeline system fails, but the extent of the consequences are not known until hours, days, or weeks later. PHMSA proposes clarifying the instructions to ensure the form collects the time consequences occurred rather than the time operators fully documented the extent of the consequences.

In Part C3 of this form, operators report the type of item that failed. When a breakout tank weld fails, operators select “onshore breakout tank or storage vessel” in Part A14 and “weld” in Part C3, but are currently unable to enter additional data about the breakout tank in Part C3, sections u and v.

PHMSA proposes to require the collection of breakout tank data in Part C3, sections u and v, for reports where A14, describing the part of the system involved in the accident, is “Onshore Breakout Tank or Storage Vessel.” This change would provide stakeholders with data about the breakout tank regardless of the item that failed on the breakout tank.

In Part G3 of this report, operators enter data when the cause of the accident is excavation damage. Currently, PHMSA instructs operators to submit data about exemptions to one-call laws only when the sub-cause of an accident is third-party excavation damage. PHMSA proposes collecting state law exemption data when any sub-cause within excavation damage is selected. This change would improve PHMSA's ability to identify instances where state law exemptions contributed to the excavation damage accident no matter which party (first, second, or third) was excavating.

PHMSA believes that the current time estimated for excavation damage information collection provides sufficient time for affected operators to include the newly required information. PHMSA does not expect operators to incur additional burden due to these revisions.

B. Form PHMSA F 7100.2-1 Annual Report for Natural and Other Gas Transmission and Gathering Pipeline Systems

PHMSA proposes adding a new part to this form to collect the number of one-call tickets and the number of excavation damage events in each CGA DIRT root cause category. Data for gas transmission and gas gathering pipelines would be reported separately.

C. Form PHMSA F 7000-1.1 Annual Report for Hazardous Liquid and Carbon Dioxide Pipeline Systems

PHMSA proposes adding a new part to this form to collect the number of one-call tickets and the number of excavation damage events in each CGA DIRT root cause category.

PHMSA proposes modifying Part J, “Miles of Pipe by Specified Minimum Yield Strength,” to include columns for pipe segments that are required to meet some, but not all, of the 49 CFR part 195 requirements. Specifically, PHMSA proposes adding a column for miles regulated under § 195.11 and a column for miles regulated under § 195.12. These changes promote consistency within the report since miles regulated under §§ 195.11 and 195.12 are reported in Parts H and I of this form.

D. Form PHMSA F 7100.1-1 Annual Report for Gas Distribution Systems

PHMSA proposes replacing the CGA DIRT root cause categories currently in this form with the 2018 CGA DIRT root cause categories.

PHMSA proposes removing Part E pertaining to the number of excess flow valves (EFVs) and manual service line shut-off valves. In 2010, after the conclusion of an EFV rulemaking, PHMSA added the number of EFVs installed during the year and the total number of EFVs in the system. Also, PHMSA added the number of shut-off valves installed during the year and the total number of shut-off valves in the system as part of the 2016 final rule, “Expanding the Use of Excess Flow Valves in Gas Distribution Systems to Applications Other Than Single-Family Residences” (Docket PHMSA-2011-0009). PHMSA's primary motivation for collecting the number of EFVs and shut-off valves on the annual report was to support PHMSA and state partner inspector efforts to assess compliance with the EFV rules. Based on feedback from inspectors, PHMSA has determined that operators' annual reporting of the number of EFVs and shut-off valves is not helpful for determining compliance. Inspectors have been determining compliance by observing construction practices and reviewing specific installation records. When gas distribution incidents occur, PHMSA collects data about EFVs and shut-off valves specific to the incident location. The collection of data in the incident report provides additional opportunities for inspectors to assess operator compliance with the EFV rulemakings. PHMSA has determined that it no longer needs to collect EFV and shut-off valve data in Part E of the annual report.

E. Form PHMSA F 7100.1 Incident Report—Gas Distribution Systems

In Part A4 of this form, operators are instructed to enter the earliest local time and date an incident reporting criterion was met. In some cases, consequences occur when the pipeline system fails, but the extent of the consequences are not known until hours, days, or weeks later. PHMSA proposes clarifying the instructions to ensure the form collects the time consequences occurred rather than the time operators fully documented the extent of the consequences.

The term “confirmed discovery” is defined in § 191.3. PHMSA proposes adding the local time and date of “confirmed discovery” in Part A of this form. This data would enhance the ability of PHMSA and stakeholders to assess operator compliance with PHMSA incident reporting regulations.

In Part G3 of this form, operators enter data when the cause of the incident is excavation damage. Currently, PHMSA instructs operators to submit data about exemptions to one-call laws only when the sub-cause is third party excavation damage. PHMSA proposes collecting state law exemption data when any sub-cause within excavation damage is selected. This change would improve PHMSA's ability to identify instances where state law exemptions contributed to the excavation damage incident no matter which party (first, second, or third) was excavating.

PHMSA proposes adding questions from the 2018 edition of the CGA DIRT and replacing the root cause categories currently in the form to match the most recent CGA DIRT root cause categories.

PHMSA believes that the current time estimated for this information collection provides sufficient time for affected operators to include the newly required information. PHMSA does not expect operators to incur additional burden due to these revisions.

F. Form PHMSA F 7100.2 Incident Report—Gas Transmission and Gathering Systems

PHMSA plans to change the name of this form to include pipeline system types that currently use the form to submit incident data to PHMSA. PHMSA proposes to change the name to “Incident Report—Gas Transmission, Gas Gathering, and Underground Natural Gas Storage Facilities.”

In Part A4 of this form, operators are instructed to enter the earliest local time and date that an incident reporting criterion was met. In some cases, consequences occur when the pipeline system fails, but the extent of the consequences are not known until hours, days, or weeks later. PHMSA proposes clarifying the instructions to ensure the form collects the time consequences occurred rather than the time operators fully documented the extent of the consequences.

The term “confirmed discovery” is defined in § 191.3. PHMSA proposes adding the local time and date of “confirmed discovery” in Part A of this form. This data would enhance the ability of PHMSA and stakeholders to assess operator compliance with PHMSA incident reporting regulations.

In Part G3 of this form, operators enter data when the cause of the incident is excavation damage. Currently, PHMSA instructs operators to submit data about exemptions to one-call laws only when the sub-cause is third-party excavation damage. PHMSA proposes collecting state law exemption data when any sub-cause within excavation damage is selected. This change would improve PHMSA's ability to identify instances where state law exemptions contributed to the excavation damage incident no matter which party (first, second, or third) was excavating.

PHMSA proposes adding questions from the 2018 edition of the CGA DIRT and replacing the root cause categories currently in the report with the 2018 CGA DIRT root cause categories.

PHMSA believes that the current time estimated for this information collection provides sufficient time for affected operators to include the newly required information. PHMSA does not expect operators to incur additional burden due to these revisions.

G. Form PHMSA F 7100.3 Incident Report—Liquefied Natural Gas (LNG) Facilities

In Part A4, operators are instructed to enter the earliest local time and date an incident reporting criterion was met. In some cases, consequences occur when the pipeline system fails, but the extent of the consequences are not known until hours, days, or weeks later. PHMSA proposes clarifying the instructions to ensure the form collects the time consequences occurred rather than the time operators fully documented the extent of the consequences.

The term “confirmed discovery” is defined in § 191.3. PHMSA proposes adding the local time and date of “confirmed discovery” in Part A of this form. This data would enhance the ability of PHMSA and stakeholders to assess operator compliance with PHMSA incident reporting regulations.

PHMSA believes that the current time estimated for this information collection provides sufficient time for affected operators to include the newly required information. PHMSA does not expect operators to incur additional burden due to these revisions.

II. Summary of Impacted Collection

Section 1320.8(d), Title 5, Code of Federal Regulations, requires PHMSA to provide interested members of the public and affected agencies an opportunity to comment on information collection and recordkeeping requests. This notice identifies information collection requests that PHMSA will submit to OMB for revision.

The following information is provided for these information collections: (1) Title of the information collection; (2) OMB control number; (3) Current expiration date; (4) Type of request; (5) Abstract of the information collection activity; (6) Description of affected public; (7) Estimate of total annual reporting and recordkeeping burden; and (8) Frequency of collection.

PHMSA will request a 3-year term of approval for these information collections. PHMSA requests comments on the following information:

1. Title: Transportation of Hazardous Liquids by Pipeline: Record Keeping and Accident Reporting.

OMB Control Number: 2137-0047.

Current Expiration Date: 3/31/2024.

Type of Request: Revision.

Abstract: This mandatory information collection covers the recordkeeping requirements and the collection of accident data from operators of hazardous liquid and carbon dioxide pipelines. Part 195 requires hazardous liquid operators to file an accident report as soon as practicable, but not later than 30 days after discovery of the accident, on DOT Form 7000-1 whenever there is a reportable accident. With respect to accidents caused by excavation damage to a pipeline, PHMSA is revising this information collection to require state law exemption data when any sub-cause is selected within the excavation damage causes. PHMSA believes that the current time estimated for this information collection provides sufficient time for affected operators to include the newly required information. PHMSA does not expect operators to incur additional burden due to this revision.

Affected Public: Operators of Hazardous Liquid and Carbon Dioxide Pipeline Facilities.

Annual Reporting and Recordkeeping Burden:

Estimated number of responses: 1,644.

Estimated annual burden hours: 53,504.

Frequency of Collection: On occasion.

2. Title: Annual and Incident Reports for Gas Pipeline Operators.

OMB Control Number: 2137-0522.

Current Expiration Date: 5/31/2024.

Type of Request: Revision.

Abstract: This mandatory information collection covers the requirements for operators of natural gas pipelines, underground natural gas storage facilities, and liquefied natural gas facilities to submit annual and incident reports to DOT/PHMSA. Currently, PHMSA receives an estimated 2,247 reports from operators in compliance with these requirements resulting in an overall time burden of 71,801 hours annually.

Section 191.17 requires operators of underground natural gas storage facilities, gas transmission systems, and gas gathering systems to submit an annual report by March 15, for the preceding calendar year. This revision includes changes to the “Annual Report for Natural and Other Gas Transmission and Gathering Pipeline Systems” to collect data on excavation damages. Each year, gas transmission operators submit an estimated 1,440 annual reports to PHMSA. The current estimated burden for each annual report is 47 hours for an overall reporting burden of 67,680 hours [47 hours × 1,440 reports]. Because gas transmission operators are new to collecting and submitting data on excavation damages, PHMSA estimates that it will take the estimated 1,440 respondents a one-time effort of 18 hours, per operator, to update their systems to accommodate the new data request. This will result in operators incurring a one-time burden of 25,920 hours [18 hours × 1,440 reports]. PHMSA expects that it will take gas transmission operators an additional hour, annually, to include the newly requested excavation damage data in their annual report submission. Therefore, over the course of the three-year approval for the information collection, the average time increase to the gas transmission annual report burden will be 7 hours [(18 hours + 3 hours)/3] each year—resulting in the annual time burden to increase from 47 hours to 54 hours per report. This will result in an overall burden increase of 10,080 hours [7 hours × 1,440 reports] due to this revision. The total annual burden for submitting the gas transmission annual report will be 77,760 hours [54 hours × 1,440 reports]. Based on the annual burden increase of 10,080 hours for the gas transmission annual reports, the estimated annual burden for this entire information collection, including the annual report burden for liquefied natural gas and underground natural gas storage operators, and the immediate notice of incidents, will increase from 71,801 hours to 81,881 hours [71,801 hours + 10,080].

Affected Public: Operators of Natural Gas Pipelines, Underground Natural Gas Storage Facilities, and Liquefied Natural Gas Facilities.

Annual Reporting and Recordkeeping Burden:

Estimated number of responses: 2,247.

Estimated annual burden hours: 81,881.

Frequency of collection: Annually and on occasion.

3. Title: Hazardous Liquid Pipeline Operator Annual Report.

OMB Control Number: 2137-0614.

Current Expiration Date: 1/31/2023.

Type of Request: Revision.

Abstract: This mandatory information collection covers the collection of annual report data from operators of hazardous liquid and carbon dioxide pipelines. Part 195 requires these pipeline operators to submit reports each year. This revision includes collecting excavation damage data and changes to the report form to improve consistency. Each year, hazardous liquid operators submit an estimated 475 annual reports to PHMSA. The current estimated burden for operators to submit each report is 19 hours for an overall annual reporting burden of 9,025 hours [19 hours × 475 reports]. Because hazardous liquid operators are new to collecting and submitting data on excavation damages, PHMSA estimates that it will take each of these 475 respondents a one-time effort of 18 hours, per operator, to update their systems to accommodate the new data request. This will result in a one-time burden of 8,550 hours [475 responses × 18 hours]. PHMSA expects that it will take hazardous liquid operators an additional hour, annually, to include the newly requested excavation damage data in their annual report submission. Therefore, over the course of the three-year approval for the information collection, the average increase to the annual report burden will be 7 hours [(18 hours + 3 hours)/3]. As a result, the annual reporting burden will increase from 19 hours to 26 hours per report. This will result in an estimated annual reporting burden of 12,350 hours [475 reports × 26 hours].

Affected Public: Operators of Hazardous Liquid and Carbon Dioxide Pipeline Facilities.

Annual Reporting and Recordkeeping Burden:

Estimated number of responses: 475.

Estimated annual burden hours: 12,350.

Frequency of Collection: Annually.

4. Title: Annual Report for Gas Distribution Operators.

OMB Control Number: 2137-0629.

Current Expiration Date: 5/31/2024.

Type of Request: Revision.

Abstract: This mandatory information collection covers the collection of data from operators of gas distribution pipeline systems for annual reports. Section 191.17 requires operators of gas distribution systems to submit an annual report by March 15, for the preceding calendar year. This revision includes updating the CGA DIRT root causes and removing data about manual service line shut-off valves and excess flow valves. Each year, gas distribution operators submit approximately 1,446 annual reports to PHMSA. The current estimated burden for operators to submit each report is 17.5 hours for an overall annual reporting burden of 25,305 hours [17.5 hours × 1,446 reports]. Because gas distribution operators are currently collecting and submitting data on excavation damages, PHMSA estimates that these respondents will incur a one-time effort of 9 hours, per operator, to update their systems to accommodate the expanded data request. This will result in a one-time burden of 13,014 hours [1,446 reports × 9 hours]. PHMSA expects that it will take gas distribution operators an additional hour, annually, to add the newly expanded excavation damage data to their annual report submission. Therefore, over the course of the three-year approval for the information collection, the average increase to the annual report burden will be 4 hours [(9 hours + 3 hours)/3] each year. As a result, the annual reporting burden will increase from 17.5 hours to 21.5 hours per report. This will result in an estimated annual reporting burden of 31,089 hours [1,446 reports × 21.5 hours].

PHMSA is also revising the burden estimate to account for the elimination of the requirement to report EFV data. PHMSA currently estimates that it takes gas distribution operators 1.5 hours, per report, to submit the total number of EFVs and shut-off valves installed and maintained in each calendar year. Therefore, the burden hour for this requirement is 2,169 hours [1.5 hours × 1,446 reports). PHMSA is proposing to eliminate this requirement which will result in a 2,169-hour burden reduction. Based on the revisions discussed above, the burden hour estimate for the gas distribution annual report will be 20 hours [17.5 hours (current) + 4 hours (DIRT revisions)—1.5 hours (eliminated EFV/shut-off valve data)] for a total annual burden of 28,920 hours [20 hours × 1,446 reports].

Affected Public: Operators of Gas Distribution Pipeline Systems.

Annual Reporting and Recordkeeping Burden:

Estimated number of responses: 1,446.

Estimated annual burden hours: 28,920.

Frequency of Collection: Annually.

5. Title: Incident Reports for Natural Gas Pipeline Operators.

OMB Control Number: 2137-0635.

Current Expiration Date: 5/31/2024.

Type of Request: Revision.

Abstract: This mandatory information collection covers the collection of incident data from operators of gas distribution, gas gathering, gas transmission, underground natural gas storage facilities, and liquefied natural gas facilities. Part 191 requires these operators to submit incident reports when certain criteria are met. This revision includes changes to form PHMSA F 7100.1, “Incident Report—Gas Distribution Systems,” to collect more state one-call law exemption data and update the CGA DIRT questions. In the “Incident Report—Gas Transmission and Gathering Systems” form, this revision includes changing the name of the form, collecting more state one-call law exemption data, and updating the CGA DIRT questions. In all three incident reports, this revision includes collecting the local time and date of “confirmed discovery.” PHMSA does not expect operators to incur additional time due to these revisions. PHMSA expects the current time estimated for this information collection to be sufficient for affected operators to include the newly required information.

Affected Public: Gas Pipeline Operators and Operators of Underground Natural Gas and Liquefied Natural Gas Facilities.

Annual Reporting and Recordkeeping Burden:

Estimated Number of Responses: 259.

Estimated Annual Burden Hours: 3,108.

Frequency of Collection: On occasion.

Comments are invited on:

(a) The need for the revision of these information collections for the proper performance of the functions of the Agency, including whether the information will have practical utility;

(b) The accuracy of the Agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

(e) Additional information that would be appropriate to collect to inform the reduction in risk to people, property, and the environment due to excavation damages.

Authority: The Paperwork Reduction Act of 1995; 44 U.S.C. Chapter 35, as amended; and 49 CFR 1.48.

Issued in Washington, DC, on March 7, 2022, under authority delegated in 49 CFR 1.97.
Alan K. Mayberry,
Associate Administrator for Pipeline Safety.

[FR Doc. 2022-05192 Filed 3-10-22; 8:45 am]

BILLING CODE 4910-60-P